FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because final or modified base flood elevations are required by the Flood Disaster Protection Act of 1973, 42 U.S.C. 4104, and are required to establish and maintain community eligibility in the National Flood Insurance Program. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
MINNESOTA
Becker (City), Sherburne County (FEMA Docket No. 7295)
Mississippi River:
Approximately 1.875 miles upstream of State Highway 25 | *913
Approximately 6.56 miles upstream of State Highway 25 | 936
Elk River:
Approximately 1.08 miles downstream of County Highway 4 | *944
Approximately 2.56 miles upstream of County Highway 4 | *951
Maps available for inspection at the Becker City Hall, 12060 Sherburne Avenue, Becker, Minnesota.
———
Brown County (Unincorporated Areas) (FEMA Docket No. 7291)
Minnesota River:
Approximately 1.1 miles downstream of Chicago and Northwestern Railroad | *805
Approximately 800 feet upstream of Chicago and Northwestern Railroad Bridge | *809
Cottonwood River:
At confluence with Minnesota River | *807
At New Ulm corporate limits | *807
Backwater Effects of the Minnesota River:
Downstream side of the Brown County corporate limits | *823
Maps available for inspection at the Brown County Planning and Zoning Office, Brown County Courthouse, New Ulm, Minnesota.
———
Hammond (City), Wabasha County (FEMA Docket No. 7283)
Zumbro River:
Approximately 0.37 mile downstream of Main Street bridge | *805
Approximately 400 feet upstream of Main Street bridge | *808
West Zumbro River Tributary:
At confluence with Zumbro River | *807
Approximately 1,175 feet upstream of Bridge Street | *808
South Zumbro River Tributary:
Approximately 300 feet upstream of confluence with West Zumbro River Tributary | *807
Approximately 100 feet upstream of confluence with West Zumbro River Tributary | *807
Maps available for inspection at the City Hall, East Main Street, Hammond, Minnesota.
———
Elk River (City), Sherburne County (FEMA Docket No. 7295)
Trott Brook:
Approximately 0.75 mile downstream of divergence of East Channel Trott Brook | *880
Approximately 0.53 mile upstream of divergence of East Channel Trott Brook | *887
Maps available for inspection at the Elk River City Hall, 13065 Orono Parkway, Elk River, Minnesota.
———
Lake City (City), Wabasha County (FEMA Docket No. 7291)
Mississippi River:
At downstream corporate limits | *682
At upstream corporate limits | *682
Gilbert Creek:
Confluence with Mississippi River | *682
Downstream of U.S. 61 bridge | *682
Miller Creek:
Confluence with Mississippi River | *682
Approximately 300 feet upstream from U.S. 61 bridge | *682
Maps available for inspection at the Lake City Hall, 205 West Center Street, Lake City, Minnesota.
———
Mazeppa (City), Wabasha County (FEMA Docket No. 7283)
North Fork Zumbro River:
Approximately 1,650 feet upstream of Maple Street dam | *932
Approximately 1.70 miles downstream of Maple Street dam | *894
Maps available for inspection at the Mazeppa City Hall, 1st and Maple Street, Mazeppa, Minnesota.
———
Millville (City), Wabasha County (FEMA Docket No. 7283)
Zumbro River:
Approximately 0.5 mile downstream side of CSHA-2 bridge | *779
Approximately 1,445 feet upstream side of CSAH-2 bridge | *784
Maps available for inspection at the City Hall, 311 Bridge Street, Millville, Minnesota.
———
Minneiska (City), Wabasha County (FEMA Docket No. 7283)
Mississippi River:
At downstream corporate limits | *668
At upstream corporate limits | *669
Maps available for inspection at the City of Minneiska, 325 Taylor Hill Road, Minneiska, Minnesota.
———
New Ulm (City), Brown County (FEMA Docket No. 7287)
Minnesota River:
Approximately 1,050 feet upstream of 20th S. Street | *808
At U.S. Highway #14 | *809
Cottonwood River:
Approximately 2,200 feet upstream of Dam | *831
Approximately 500 feet downstream of County Highway 13 | *832
Maps available for inspection at the New Ulm City Engineer's Office, 100 North Broadway, New Ulm Minnesota.
———
Sherburne County (Unincorporated Areas) (FEMA Docket No. 7295)
Mississippi:
Approximately 4.1 miles downstream of U.S. Route 101 | *856
Approximately 0.51 mile downstream of St. Cloud Dam | *971
Elk River:
Approximately 600 feet upstream of County Highway 4 | *946
At Big Elk Lake | *968
Maps available for inspection at the Sherburne County Planning and Zoning Department, 13880 Highway 10, Elk River, Minnesota.
———
Wabasha (City), Wabasha County (FEMA Docket No. 7283)
Mississippi River:
Approximately 1.54 miles upstream of State Route 60 bridge | *680
Approximately 3.41 miles downstream of State Route 60 bridge | *677
Maps available for inspection at the City Hall, 900 Hiawatha Drive, Wabasha, Minnesota.
———
Wabasha County (Unincorporated Areas) (FEMA Docket No. 7283)
Zumbro River:
Approximately 1.34 miles downstream of CSAH-2 bridge | *776
Downstream side of Zumbro Lake Dam | *875
North Fork Zumbro River:
At confluence with Zumbro River | *860
Approximately 0.55 mile upstream of Maple Street Dam | *932
Mississippi River:
Downstream county limits | *668
Upstream county boundary | *682
Zumbro Lake:
Upstream side of Zumbro Lake Dam | *922
Upstream county boundary | *922
Buckman Coulee:
Approximately 850 feet upstream of upstream crossing of U.S. Route 63 | *844
Approximately 450 feet downstream of State Route 60 crossing | *846
Gilbert Creek:
Approximately 2.1 miles upstream of Soo Line Railroad crossing | *714
Approximately 1.3 miles downstream of confluence of Sugarloaf Creek | *715
Miller Creek:
Approximately 100 feet upstream of U.S. 61 | *682
Approximately 600 feet downstream of U.S. 61 | *682
South Zumbro River Tributary:
At confluence with West Zumbro River Tributary | *808
Approximately 300 feet upstream of confluence with West Zumbro River Tributary | *808
Maps available for inspection at the Wabasha County Courthouse, 625 Jefferson Avenue, Wabasha, Minnesota.
———
Zumbro Falls (City), Wabasha County (FEMA Docket No. 7283)
Zumbro River:
Approximately 1,250 feet upstream side of Main Street bridge | *842
Approximately 2,000 feet downstream of Main Street bridge | *839
Buckman Coulee:
At downstream cross of U.S. Route 63 | *839
Approximately 50 feet downstream side of U.S. Highway 63 | *41
Maps available for inspection at the Zumbro Falls City Hall, Main Street, Zumbro Falls, Minnesota.
NEW HAMPSHIRE
Brentwood (Town), Rockingham County (FEMA Docket No. 7287)
Exeter River:
At downstream corporate limits | *50
Approximately 0.57 mile upstream of corporate limits | *134
Dudley Brook:
At downstream corporate limits | *80
At North Road | *108
Maps available for inspection at the Selectmen's Office, 1 Dalton Road, Brentwood Town Hall, Brentwood, New Hampshire.
NEW JERSEY
Morris Plains (Borough), Morris County (FEMA Docket No. 7295)
Watnong Brook:
Approximately 40 feet downstream of West Hanover Avenue | *371
Approximately 780 feet upstream of CONRAIL | *450
Maps available for inspection at the Morris Plains Borough Clerks Office, 531 Speedwell Avenue, Morris Plains, New Jersey.
NEW YORK
Cooperstown (Village), Otsego County (FEMA Docket No. 7295)
Otsego Lake:
Entire shoreline within community | *1,194
Maps available for inspection at the Cooperstown Village Hall, 22 Main Street, Cooperstown, New York.
———
Greenwich (Village), Washington County (FEMA Docket No. 7295)
Batten Kill:
Approximately 1,185 feet downstream of Golden Fleece Dam | *314
Approximately 2,160 feet upstream of the most upstream dam | *343
Maps available for inspection at the Greenwich Village Hall, 6 Academy Street, Greenwich, New York.
———
Lloyd (Town), Ulster County (FEMA Docket No. 7295)
Black Creek:
Approximately 100 feet downstream of Pancake Hollow Road | *317
Approximately 1.07 miles upstream of State Route 44 | *518
Twaalfskill Creek:
Approximately 140 feet downstream of Van Wagner Road | *249
Approximately 1 mile upstream of Tillison Avenue | *337
Maps available for inspection at the Lloyd Town Hall, 12 Church Street, Highland, New York.
———
Lowville (Village), Lewis County (FEMA Docket No. 7291)
Mill Creek:
At downstream corporate limits | *744
Approximately 500 feet upstream of Cedar Street | *873
Maps available for inspection at the Village of Lowville Municipal Building, Code Enforcement Office, 5402 Dayan Street, Lowville, New York.
———
New Bremen (Town), Lewis County (FEMA Docket No. 7295)
Black River:
Approximately 100 feet downstream of State Route 410 | *737
Approximately 0.95 mile upstream of Lowville and Beaver River Railroad | *743
Maps available for inspection at the New Bremen Town Hall, RR 3, Lowville, New York.
———
New York Mills (Village), Oneida County (FEMA Docket No. 7291)
Sauquoit Creek:
Approximately 190 feet downstream of Oriskany Boulevard | *422
Approximately 610 feet upstream of State Route 5A | *462
Maps available for inspection at the New York Mills Village Clerk's Office, 1 Maple Street, New York Mills, New York.
———
Whitesboro (Village), Oneida County (FEMA Docket No. 7291)
Sauquoit Creek:
At downstream corporate limits | *414
Approximately 1,760 feet upstream of Oriskany Boulevard | *428
Mohawk River:
At confluence of Sauquoit Creek | *414
Approximately 1,000 feet upstream side of Mohawk Street | *414
Maps available for inspection at the Whitesboro Village Hall, 10 Moseley Street, Whitesboro, New York.
———
Whitestown (City), Oneida County (FEMA Docket No. 7291)
Sauquoit Creek:
Upstream side of CONRAIL bridge | *418
Upstream side of State Route 5A | *461
Mud Creek:
At confluence with Sauquoit Creek | *450
Approximately 365 feet upstream side of confluence with Sauquoit Creek | *450
Maps available for inspection at the Whitestown Town Hall, 8 Park Avenue, Whitesboro, New York.
———
Yorkville (Village), Oneida County (FEMA Docket No. 7291)
Sauquoit Creek:
At upstream side of CONRAIL bridge | *418
Approximately 310 feet upstream of Oriskany Boulevard | *427
Maps available for inspection at the Yorkville Village Hall, 7 7th Street, Yorkville, New York.
NORTH CAROLINA
Cumberland County (Unincorporated Areas) (FEMA Docket No. 7295)
Tank Creek:
Approximately 100 feet downstream of Seaboard Coast Line Railroad | *174
Approximately 1,800 feet downstream of Seaboard Coast Line Railroad | *171
Maps available for inspection at the Cumberland County Old Courthouse, Engineering Department, 130 Gillespie Street, Room 214, Fayetteville, North Carolina.
———
Spring Lake (Town), Cumberland County (FEMA Docket No. 7295)
Tank Creek Tributary A:
At confluence with Tank Creek | *167
At CSX Transportation | *222
Maps available for inspection at the Spring Lake Town Hall, Inspection's Department, 300 Ruth Street, Spring Lake, North Carolina.
OHIO
Louisville (City), Stark County (FEMA Docket No. 7130)
Broad-Monter Creek:
At upstream side of U.S. Route 44 (Ravenne Avenue) | *1,110
Just downstream of Meese Road | *1,161
North Chapel Creek:
Approximately 450 feet downstream of Frana-Clara Street | *1,105
Approximately 1,500 feet upstream of Reno Drive | *1,129
Maps available for inspection at the City of Louisville, Planning and Development, 215 South Mill Street, Louisville, Ohio.
PENNSYLVANIA
Aspinwall (Borough), Allegheny County (FEMA Docket No. 7295)
Allegheny River:
Approximately 650 feet downstream of CONRAIL Bridge | *739
Approximately 1,050 feet upstream of CONRAIL Bridge | *739
Maps available for inspection at the Aspinwall Borough Municipal Building, 217 Commercial Avenue, Aspinwall, Pennsylvania.
———
Brackenridge (Borough), Allegheny County (FEMA Docket No. 7295)
Allegheny River:
Approximately 0.61 mile upstream of Ross Street (New Tarentum Bridge) | *756
Approximately 1.18 miles upstream of Ross Street (New Tarentum Bridge) | *756
Maps available for inspection at the Brackenridge Borough Office, 1000 Brackenridge Avenue, Brackenridge, Pennsylvania.
———
Cheswick (Borough), Allegheny County (FEMA Docket No. 7295)
Allegheny River:
Approximately 0.75 mile upstream of Lock and Dam No. 3 | *749
Approximately 1.1 miles upstream of Lock and Dam No. 3 (at upstream corporate limits) | *749
Maps available for inspection at the Cheswick Borough Office, 220 South Atlantic Avenue, Cheswick, Pennsylvania.
———
East Deer (Township), Allegheny County (FEMA Docket No. 7295)
Allegheny River:
Approximately 0.28 mile upstream of New Kensington Highway | *753
Approximately 0.48 mile downstream of Ross Street (New Tarentum Bridge) (at upstream corporate limits) | *755
Maps available for inspection at the Township of East Deer Municipal Building, 927 Freeport Road, Creighton, Pennsylvania.
———
Etna (Borough), Allegheny County (FEMA Docket No. 7295)
Allegheny River:
At confluence of Pine Creek | *736
Approximately 0.38 mile downstream of Sixty Second Street Bridge | *736
Pine Creek:
At confluence with Allegheny River | *736
Just upstream of Poplar Street | *736
Maps available for inspection at the Etna Borough Office, 437 Butler Street, Pittsburgh, Pennsylvania.
———
Harmar (Township), Allegheny County (FEMA Docket No. 7295)
Allegheny River:
Approximately 0.56 mile downstream of Oakmont-Hulton Highway | *743
Approximately 500 feet upstream of Lock and Dam No. 3 | *748
Maps available for inspection at the Township of Harmar Municipal Building, 701 Freeport Road, Cheswick, Pennsylvania.
———
Harrison (Township), Allegheny County (FEMA Docket No. 7295)
Allegheny River:
Approximately 0.85 mile downstream of Lock and Dam No. 2 | *757
Upstream side of Freeport Bridge | *768
Maps available for inspection at the Township of Harrison Municipal Building, Municipal Drive, Natrona Heights, Pennsylvania.
———
Millvale (Borough), Allegheny County (FEMA Docket No. 7295)
Allegheny River:
Approximately 0.37 mile downstream of Fortieth Street | *734
Approximately 65 feet downstream of Fortieth Street | *734
Allegheny River (Herr's Island Back Channel):
At downstream corporate limits | *734
Approximately 1,400 feet upstream of CSX Transportation | *734
Maps available for inspection at the Millvale Borough Hall, 501 Lincoln Avenue, Millvale, Pennsylvania.
———
O'Hara (Township), Allegheny County (FEMA Docket No. 7295)
Allegheny River:
Downstream side of Lock and Dam No. 2 | *738
Approximately 0.56 mile downstream of Oakmont-Hulton Highway | *743
Maps available for inspection at the O'Hara Township Office, 325 Fox Chapel Road, Pittsburgh, Pennsylvania.
———
Oakmont (Borough), Allegheny County (FEMA Docket No. 7295)
Allegheny River:
At confluence of Plum Creek approximately 0.56 mile downstream of Oakmont-Hulton Highway | *742
Approximately 1.12 mile downstream of Pennsylvania Turnpike | *743
Maps available for inspection at the Borough of Oakmont Municipal Building, Fifth Street and Virginia Avenue, Oakmont, Pennsylvania.
———
Penn Hills (Municipality), Allegheny County (FEMA Docket No. 7295)
Allegheny River:
Approximately 1.1 miles upstream of CONRAIL Bridge | *740
At upstream corporate limits | *742
Maps available for inspection at the Municipality of Penn Hills Planning Department, 12245 Frankstown Road, Penn Hills, Pennsylvania.
———
Pittsburgh (City), Allegheny County (FEMA Docket No. 7295)
Allegheny River:
Approximately 900 feet upstream of Ninth Street | *730
Approximately 1.1 miles upstream of CONRAIL Bridge | *740
Allegheny River (Herr's Island Back Channel):
Just upstream of CONRAIL Bridge | *733
Approximately 1,400 feet upstream of CSX Transportation | *734
Maps available for inspection at the Pittsburgh City Planning Office, 200 Ross Street, Pittsburgh, Pennsylvania.
———
Plum (Borough), Allegheny County (FEMA Docket No. 7295)
Allegheny River:
At Pennsylvania Turnpike | *745
Approximately 0.32 mile downstream of confluence of Pucketa Creek | *752
Maps available for inspection at the Plum Borough Planning and Zoning Office, 4575 New Texas Road, Pittsburgh, Pennsylvania.
———
Shaler (Township), Allegheny County (FEMA Docket No. 7295)
Allegheny River:
Approximately 0.80 mile upstream of Fortieth Street | *735
Approximately 0.72 mile downstream of 62nd Street | *736
Maps available for inspection at the Shaler Township Hall, 300 Wetzel Road, Glenshaw, Pennsylvania.
———
Sharpsburg (Borough), Allegheny County (FEMA Docket No. 7295)
Allegheny River:
Approximately 0.38 mile upstream of Sixty Second Street Bridge | *737
Approximately 0.75 mile downstream of Lock and Dam No. 2 | *737
Maps available for inspection at the Sharpsburg Borough Office, 10611 Main Street, Pittsburgh, Pennsylvania.
———
South Londonderry (Township), Lebanon County (FEMA Docket No. 7291)
Spring Creek:
Approximately 480 feet downstream of Yorkshire Road | *411
Approximately 650 feet upstream of Lawn Road | *466
Tributary to Spring Creek:
At the confluence with Spring Creek | *441
Approximately 1,600 feet upstream from the confluence with Spring Creek | *453
Maps available for inspection at the South Londonderry Township Hall, 101 Center Street, Campbell, Pennsylvania.
———
Springdale (Borough),
Allegheny River (FEMA Docket No. 7295)
Allegheny River:
Approximately 1.1 miles upstream of Lock and Dam No. 3 (at downstream corporate limit) | *749
Approximately 2,200 feet downstream of confluence of Pucketa Creek (at upstream corporate limits) | *752
Maps available for inspection at the Borough of Springdale Municipal Building, 325 School Street, Springdale, Pennsylvania.
———
Springdale (Township), Allegheny County (FEMA Docket No. 7295)
Allegheny River:
Approximately 0.40 mile downstream of confluence of Pucketa Creek (at downstream corporate limits) | *752
Approximately 1,790 feet downstream of New Kensington Highway | *753
Maps available for inspection at the Springdale Township Hall, 100 Plate Drive, Harwick, Pennsylvania.
———
Tarentum (Borough), Allegheny County (FEMA Docket No. 7295)
Allegheny River:
Approximately 0.57 mile downstream of Ross Street (New Taretum Bridge) (at downstream corporate limits) | *755
Approximately 0.76 mile upstream of Ross Street (New Tarentum Bridge) (at upstream corporate limits) | *756
Maps available for inspection at the Borough of Tarentum Municipal Building, 318 Second Avenue, Tarentum, Pennsylvania.
———
Verona (Borough), Allegheny County (FEMA Docket No. 7295)
Allegheny River:
Approximately 4,400 feet downstream of confluence with Plum Creek (at downstream corporate limits) | *742
At confluence with Plum Creek | *742
Maps available for inspection at the Borough of Verona Municipal Building, 736 East Railroad Avenue, Verona, Pennsylvania.
RHODE ISLAND
Providence (City), Providence County (FEMA Docket No. 7291)
Ponding Area 4-1A:
Entire shoreline within the City of Providence | *78
Ponding Area 4-1B:
Entire shoreline within the City of Providence | *73
Ponding Area 4-3:
Entire shoreline within the City of Providence | *71
Ponding Area 4-4:
Entire shoreline within the City of Providence | *85
Maps available for inspection at the Providence City Hall, Planning and Development Building, 400 Westminster Street, 5th Floor, Providence, Rhode Island.
VERMONT
Wolcott (Town), Lamoille County (FEMA Docket No. 7291)
Wild Branch:
At the upstream side of Lamoille Valley Railroad | *677
Approximately 625 feet upstream of a private drive (approximately 225 feet downstream of upstream corporate limits) | *927
Maps available for inspection at the Wolcott Town Hall, 4186 Vermont Route 15, Wolcott, Vermont.
WEST VIRGINIA
Logan County (Unincorporated Areas) (FEMA Docket NO. 7299)
Mud Fork:
At the confluence with Copperas Mine Fork | *676
Approximately 1,960 feet upstream from CSX Railroad | *676
Copperas Mine Fork:
At the confluence with Island Creek | *676
Approximately 1,070 feet downstream from County Route 9 and County Route 4 | *676
Island Creek:
Approximately 140 feet upstream of confluence of Guyandotte River | *661
Approximately 1,425 feet upstream of confluence of Cow Creek | *850
Maps available for inspection at the 911 EOC Building, Flood Zoning Office, 28½ Main Avenue, Logan, West Virginia.
———
Morgan County (Unincorporated Areas) (FEMA Docket No. 7299)
Cacapon River:
Approximately 200 feet upstream of the confluence with the Potomac River | *454
Approximately 1,405 feet upstream of the most upstream crossing of State Route 9 | *584
Maps available for inspection at the Morgan County Courthouse, 202 Fairfax Street, Berkeley Springs, West Virginia.
WISCONSIN
Crawford County (Unincorporated Areas) (FEMA Docket No. 7295)
Wisconsin River:
At confluence with the Mississippi River | *628
Approximately 1.88 miles upstream of confluence with Richland Creek | *662
Mississippi River:
Approximately 4 miles downstream of U.S. Highway 18 | *628
Approximately 0.7 mile downstream of U.S. Highway 18 | *629
Maps available for inspection at the Crawford County Zoning Department, 111 West Dunn Street, Prairie Du Chien, Wisconsin.
———
Fond du Lac County (Unincorporated Areas) (FEMA Docket No. 7291)
Sevenmile Creek:
Approximately 845 feet upstream of the confluence with East Branch Fond du Lac River | *839
Upstream side of County Route Y | *879
De Neveu Creek:
Approximately 1,380 feet downstream of U.S. Highway 45 | *810
Approximately 1,900 feet upstream of confluence of Unnamed Tributary to De Neveu Creek | *826
Unnamed Tributary to Unnamed Tributary to De Neveu Creek:
At confluence with Unnamed Tributary to De Neveu Creek | *826
At outlet of Lake De Neveu | *824
Lake De Neveu:
Entire shoreline within county | *864
Kettle Moraine Lake:
Entire shoreline within county | *1,025
Unnamed Tributary to De Neveu Creek:
At confluence with De Neveu Creek | *822
Just upstream of County Route UU | *957
Maps available for inspection at the Code Enforcement Office, 160 South Macy Street, Fond du Lac, Wisconsin.

(Catalog of Federal Domestic Assistance No. 83.100, “Flood Insurance.”)

Dated: January 31, 2000.
Michael J. Armstrong,
Associate Director for Mitigation.

[FR Doc. 00-3521 Filed 2-14-00; 8:45 am]

BILLING CODE 6718-04-P